DEPARTMENT OF AGRICULTURE

Natural Resources Conservation Service

Notice of Meeting of the Agricultural Air Quality Task Force

AGENCY: Natural Resources Conservation Service (NRCS), United States Department of Agriculture.

ACTION: Notice of meeting; correction.

SUMMARY: The Natural Resources Conservation Service (NRCS) published in the Federal Register of July 28, 2010, Notice of a Meeting (75 FR 44214). This document corrects the location of the LPAES Workshop. The correct location is on the campus of the U.S. Environmental Protection Agency Headquarters, Room C111 A-B-C, located at 109 TW Alexander Drive, Research Triangle Park, North Carolina 27711; (919) 541-5400.

The Agricultural Air Quality Task Force (AAQTF) will meet to continue discussions on air quality issues relating to agriculture. Additionally, the Livestock and Poultry Subcommittee of the AAQTF will conduct a pre-meeting Livestock and Poultry Air Emissions Standardization (LPAES) Workshop discussing livestock and poultry air emissions monitoring data/research obtained from the National Animal Air Emissions Monitoring Study (NAAEMS), and other published research/data.

DATES: The LPAES workshop will convene at 2 p.m. on Monday September 27, 2010 and at 8 a.m. on Tuesday September 28, 2010 and will conclude at 6 p.m. September 27, 2010 and 5 p.m. September 28, 2010.

The AAQTF meeting will convene at 8 a.m. on Wednesday and Thursday (September 29-30, 2010), and conclude at 5 p.m. each day. A public comment period for the AAQTF meeting will be held on September 30, 2010. Individuals making oral presentations should register in person at the AAQTF meeting site and must bring with them fifty copies of any materials they would like distributed.

ADDRESSES: The LPAES workshop and the AAQTF meetings will be held on the campus of the U.S. Environmental Protection Agency Headquarters, Room C111 A-B-C, located at 109 TW Alexander Drive, Research Triangle Park, North Carolina 27711; (919) 541-5400.

FOR FURTHER INFORMATION CONTACT: Questions and comments should be directed to Jeff Schmidt, (Acting) Designated Federal Official. Mr. Schmidt may be contacted at the USDA Natural Resources Conservation Service, 420 S State Road 7, Royal Palm Beach, Florida, 33414; (561) 242-5520 x3748; jeff.schmidt@fl.usda.gov.

SUPPLEMENTARY INFORMATION: Notice of this meeting is given under the Federal Advisory Committee Act, 5 U.S.C. App. 2. Additional information for the AAQTF meeting may be found on the World Wide Web at http://www.airquality.nrcs.usda.gov/AAQTF/. Please be advised RSVPs are highly recommended for the LPAES workshop.

Signed August 6, 2010, in Washington, DC.
Teressa Davis,
Rulemaking Manager, Natural Resources Conservation Service.

[FR Doc. 2010-19893 Filed 8-11-10; 8:45 am]

BILLING CODE 3410-16-P